COMMISSION ON THE FUTURE OF THE UNITED STATES AEROSPACE INDUSTRY

Public Meeting

AGENCY: Commission on the Future of the United States Aerospace Industry.

ACTION: Notice.

SUMMARY: This meeting is the second in a series of planned public meetings being held by the Commission to carry out its statutory charge with respect to the U.S. civil and military, air and space enterprise. The focus of this meeting is on receiving testimony and conducting deliberations on aerospace business considerations; export control; and communication, navigation and surveillance (CNS). The Commissioners will also address current issues, including aerospace budget, workforce and space concerns. The meeting will close with a discussion and decisions regarding the scope and priorities for the next meeting.

Section 1092 of the Floyd D. Spence National Defense Authorization Act for Fiscal Year 2001 (Pub. L. 106-398) established the Commission on the Future of the United States Aerospace Industry to study the issues associated with the future of the United States national security; and assess the future importance of the domestic aerospace industry for the economic and national security of the United States. The Commission is governed by the provisions of the Federal Advisory Committee Act, Pub. L. 92-463, as amended (5 U.S.C. Appendix 2), which sets forth standards for the formation of advisory committees and implementing regulations (41 CFR Subpart 101-6.10). All interested parties are welcome to submit written comments at any time.

TIME AND DATE: Tuesday, February 12, 2002; 8:30 a.m. to 5:30 p.m.

ADDRESSES: Herbert C. Hoover Building Auditorium, U.S. Department of Commerce, 14th Street and Constitution Avenue, NW., Washington, DC 20230.

FOR FURTHER INFORMATION CONTACT: Cindy Waters, 1235 Jefferson Davis Highway, Suite 940; Arlington, Virginia 22202; phone 703-602-1515; e-mail ­watersc@osd.pentagon.mil.

Dated: January 15, 2002.
Charles H. Huettner,
Executive Director, Commission on the Future of the United States Aerospace Industry.

[FR Doc. 02-1640 Filed 1-22-02; 8:45 am]

BILLING CODE 6820-WP-P